CONSUMER PRODUCT SAFETY COMMISSION

16 CFR Part 1025

[CPSC Docket No. CPSC-2016-0006]

Rules of Practice for Adjudicative Proceedings

AGENCY: Consumer Product Safety Commission.

ACTION: Termination of rulemaking.

SUMMARY: The Consumer Product Safety Commission is withdrawing its proposed rule to update the Commission's Rules of Practice for Adjudicative Proceedings because the Commission has not taken any action on this proposed rule since it was published in 2016.

DATES: As of September 28, 2023, the proposed rule published on April 13, 2016, at 81 FR 21775, is withdrawn.

ADDRESSES: Consumer Product Safety Commission, 4330 East-West Highway, Bethesda, MD 20814.

FOR FURTHER INFORMATION CONTACT: Daniel Vice, Office of the General Counsel, 4330 East-West Highway, Bethesda, MD 20814; telephone: 301-504-6996; dvice@cpsc.gov.

SUPPLEMENTARY INFORMATION: Under the Administrative Procedure Act, adjudications required by a statute to be determined on the record after an opportunity for an agency hearing are subject to certain procedural requirements. 5 U.S.C. 554. In 1980, the Commission adopted Rules of Practice for Adjudicative Proceedings (Rules) to govern such Commission proceedings. 16 CFR part 1025.

On April 13, 2016, the Commission issued a notice of proposed rulemaking (NPR) to update the Rules. 81 FR 21775. The Commission proposed to modernize the Rules to reflect changes in civil and administrative litigation and revisions to the Federal Rules of Civil Procedure and Federal Rules of Evidence since adoption of the Rules. The Commission received four comments on the proposed rule.

In November 2019, Commission staff sent to the Commission a draft supplemental notice of proposed rulemaking (SNPR). The draft SNPR proposed additional changes to the Rules in light of comments received on the NPR and the Commission's experience with adjudicative proceedings since publication of the NPR. The Commission did not take any action on the draft SNPR.

Because the Commission has not taken action on this proposed rule since 2016, the Commission is terminating this proceeding.¹ In the future, the Commission may consider revisions to the Rules in light of its experience with agency adjudications and relevant circumstances including changes to rules for Federal judicial proceedings.

¹ On September 19, 2023, the Commission voted 4-0 to publish this termination of rulemaking.

Elina Lingappa,
Paralegal Specialist, Office of the Secretary, Consumer Product Safety Commission.

[FR Doc. 2023-21165 Filed 9-27-23; 8:45 am]

BILLING CODE 6355-01-P